DEPARTMENT OF DEFENSE

Office of the Secretary of Defense

Notice of Federal Advisory Committee Meeting

AGENCY: DoD.

ACTION: Notice.

SUMMARY: Under the provisions of the Federal Advisory Committee Act of 1972 (5 U.S.C., Appendix, as amended), the Government in the Sunshine Act of 1976 (5 U.S.C. 552b, as amended), and 41 CFR 102-3.150, the Department of Defense announces the following Federal advisory committee meeting.

Name of Committee: Defense Business Board (DBB).

DATES: The public meeting of the Defense Business Board (hereafter referred to as “the Board”) will be held on Thursday, January 20, 2011.

Time: The meeting will begin at 8:45 a.m. and end at 10:45 a.m. (Escort required; See guidance in section below, “Public's Accessibility to the Meeting.”)

Location: Room 3E863 in the Pentagon, Washington, DC (escort required; See guidance in section below, “Public's Accessibility to the Meeting.”)

Purpose of the Meeting: At this meeting, the Board will deliberate draft findings and recommendations from the “Strategic Sourcing” and “Culture of Savings—Implementing Behavior Change in DoD” Task Groups. The Board will also receive updates from the “Assessing Global Logistics Management,” “Energy Acquisition,” “Military Retirement” and “Skill Sets for Program Managers” Task Groups. The mission of the Board is to advise the Secretary of Defense on effective strategies for implementation of best business practices of interest to the Department of Defense.

Agenda

Public Session

0845-1015 Deliberation of Task Group Recommendations

—Strategic Sourcing

—Culture of Savings—Implementing Behavior Change in DoD

1015-1045 Task Group Updates

—Assessing Global Logistics Management

—Energy Acquisition

—Military Retirement

—Skill Sets for Program Managers

End of Public Session

1045—1115 Break

Availability of Materials for the Meeting: A copy of the agenda for the January 20, 2011 meeting and the terms of reference for the Task Groups may be obtained at the meeting or from the Board's Web site at http://dbb.defense.gov/meetings.html under “Upcoming Meetings: 20 January 2011.”

Public's Accessibility to the Meeting: Pursuant to 5 U.S.C. 552b and 41 CFR 102-3.140 through 102-3.165, and the availability of space, part of this meeting is open to the public. Seating is limited and is on a first-come basis. All members of the public who wish to attend the pubic session of the meeting must contact Ms. Debora Duffy at the number listed in this notice no later than noon on Wednesday, January 12th to register and make arrangements for a Pentagon escort, if necessary. Public attendees requiring escort should arrive at the Pentagon Metro Entrance in time to complete security screening by no later than 7:45 a.m. To complete security screening, please come prepared to present two forms of identification and one must be a pictured identification card.

Special Accommodations: Individuals requiring special accommodations to access the public meeting should contact Ms. Duffy at least five (5) business days prior to the meeting so that appropriate arrangements can be made.

Prior to the Public Session, the DBB will conduct an Administrative Work Session starting at 8 a.m. and ending at 8:45 a.m. to address administrative matters and conduct annual training. After the Public Session, the DBB will conduct a Preparatory Work Session starting at 11:15 a.m. and ending at 3 p.m. to prepare for the next meeting of the DBB. Pursuant to 41 CFR 102-3.160, the public may not attend the Administrative and Preparatory Work Sessions.

SUPPLEMENTARY INFORMATION:

Procedures for Providing Public Comments

Pursuant to 41 CFR 102-3.105(j) and 102-3.140, and section 10(a)(3) of the Federal Advisory Committee Act of 1972, the public or interested organizations may submit written comments to the Board about its mission and topics pertaining to this public session.

Written comments should be received by the DFO at least five (5) business days prior to the meeting date so that the comments may be made available to the Board for their consideration prior to the meeting. Written comments should be submitted via e-mail to the address for the DFO given in this notice in the following formats: Adobe Acrobat, WordPerfect, or Microsoft Word. Please note that since the Board operates under the provisions of the Federal Advisory Committee Act, as amended, all public presentations will be treated as public documents and will be made available for public inspection, including, but not limited to, being posted on the Board's Web site.

Due to late adjustments to the meeting agenda the Defense Business Board and the Government was unable to process the Federal Register notice for the January 20, 2011 meeting of the Defense Business Board as required by 41 CFR 102-3.150(a). Accordingly, the Advisory Committee Management Officer for the Department of Defense, pursuant to 41 CFR 102-3.150(b), waives the 15-calendar day notification requirement.

Committee's Designated Federal Officer: The Board's Designated Federal Officer is Ms. Kelly Van Niman, Defense Business Board, 1155 Defense Pentagon, Room 5B-1088A, Washington, DC 20301-1155, kelly.vanniman@osd.mil, (703) 697-2346. For meeting information please contact Ms. Debora Duffy, Defense Business Board, 1155 Defense Pentagon, Room 5B-1088A, Washington, DC 20301-1155, Debora.Duffy@osd.mil, (703) 697-2168.

Dated: January 4, 2011.
Morgan F. Park,
Alternate OSD Federal Register Liaison Officer, Department of Defense.

[FR Doc. 2011-233 Filed 1-7-11; 8:45 am]

BILLING CODE 5001-06-P